DEPARTMENT OF TRANSPORTATION

Federal Aviation Administration

14 CFR Part 97

[Docket No. 30216; Amdt. No. 2023]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace system, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Program Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timelessness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which regulation and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on November 24, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97,27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPS; AND § 97.35 COPTER SIAPs; identified as follows:

* * *Effective Upon Publication

FDC date | State | City | Airport | FEC No. | SIAP
11/08/00 | IL | Chicago/Aurora | Aurora Muni | 0/3884 | VOR RWY 15, ORIG. . .
11/08/00 | KS | Hays | Hays Regional | 0/3924 | VOR RWY 16, AMDT 3A. . .
11/08/00 | KS | Hays | Hays Regional | 0/3925 | VOR/DME RWY 16, AMDT 3B. . .
11/08/00 | KS | Hays | Hays Regional | 0/3926 | VOR/DME RWY 34, AMDT 2B. . .
11/08/00 | KS | Hays | Hays Regional | 0/3931 | VOR RWY 34, AMDT 5A. . .
11/08/00 | NV | Elko | Elko Regional | 0/3923 | VOR/DME or GPS-B AMDT 3A. . .
11/08/00 | OK | Sand Springs | William R. Pogue Muni | 0/3887 | NDB RWY 35, AMDT 2. . .
11/08/00 | OK | Tulsa | Richard Lloyd Jones JR | 0/3885 | ILS RWY 1L, ORIG. . .
11/08/00 | OK | Tulsa | Richard Lloyd Jones JR | 0/3890 | VOR RWY 1L, AMDT 4. . .
11/08/00 | OK | Tulsa | Richard Lloyd Jones JR | 0/3911 | VOR/DME or GPS-A, AMDT 6. . .
11/08/00 | TX | Dalhart | Dalhart Muni | 0/3882 | GPS RWY 17, ORIG-A. . .
11/08/00 | UT | Cedar City | Cedar City Regional | 0/3929 | ILS RWY 20 AMDT 2A. . .
11/09/00 | KS | Herington | Herington Regional | 0/3988 | NDB or GPS RWY 17, AMDT 1. . .
11/09/00 | KS | Johnson | Stanton County Muni | 0/3987 | NDB or GPS RWY 17, ORIG. . .
11/09/00 | KS | Parsons | Tri-City | 0/3979 | VOR/DME RNAV RWY 35, AMDT 5B. . .
11/09/00 | KS | Parsons | Tri-City | 0/3986 | VOR/DME RNAV RWY 17, AMDT 5A. . .
11/09/00 | TX | Dallas | Redbird | 0/3995 | VOR/DME or GPS RWY 17, ORIG. . .
11/13/00 | TX | Houston | William P. Hobby | 0/3997 | NDB RWY 4, AMDT 32. . .
11/09/00 | TX | Houston | William P. Hobby | 0/4003 | LOC RWY 22, ORIG. . .
11/09/00 | TX | Houston | William P. Hobby | 0/4004 | GPS RWY 4, ORIG. . .
11/09/00 | TX | Houston | William P. Hobby | 0/4005 | GPS RWY 12R, ORIG. . .
11/09/00 | TX | Houston | William P. Hobby | 0/4006 | GPS RWY 17, ORIG. . .
11/09/00 | TX | Houston | William P. Hobby | 0/4007 | GPS RWY 22, ORIG. . .
11/09/00 | TX | Houston | William P. Hobby | 0/4009 | GPS RWY 30L, ORIG. . .
11/09/00 | TX | Houston | William P. Hobby | 0/4011 | GPS RWY 35, ORIG. . .
11/09/00 | TX | Houston | William P. Hobby | 0/4012 | VOR/DME RWY 4, AMDT 17. . .
11/09/00 | TX | Houston | William P. Hobby | 0/4013 | VOR/DME RWY 17, AMDT 1B. . .
11/09/00 | TX | Houston | William P. Hobby | 0/4014 | ILS RWY 4, AMDT 37. . .
11/09/00 | TX | Houston | William P. Hobby | 0/4015 | ILS RWY 12R, AMDT 11A. . .
11/09/00 | TX | Houston | William P. Hobby | 0/4018 | VOL/DME RWY 22, AMDT 22A. . .
11/09/00 | TX | Houston | William P. Hobby | 0/4019 | VOL/DME RWY 35, AMDT 2A. . .
11/09/00 | TX | Houston | William P. Hobby | 0/4020 | VOL/DME RWY 30L, AMDT 16A. . .
11/09/00 | TX | Houston | William P. Hobby | 0/4022 | VOR RWY 12R, AMDT 18. . .
11/09/00 | TX | Sherman/Denison | Grayson County | 0/3994 | VOR/DME-A, ORIG. . .
11/13/00 | CT | Groton | Groton-New London | 0/4114 | VOR or GPS RWY 23 AMDT 9A. . .
11/13/00 | CT | Groton | Groton-New London | 0/4115 | VOR or GPS RWY 5 AMDT 7. . .
11/13/00 | CT | Groton | Groton-New London | 0/4116 | ILS RWY 5 AMDT 10A. . .
11/13/00 | CT | Groton | Groton-New London | 0/4117 | GPS RWY 33 AMDT 1. . .
11/13/00 | HI | Kaunakakai | Molokai | 0/4079 | VOR or TACAN or GPS-A AMDT 4. . .
11/13/00 | TX | Houston | William P. Hobby | 0/4122 | ILS RWY 30L, AMDT 4. . .
11/14/00 | FL | Tallahassee | Tallahassee Regional | 0/4154 | ILS RWY 36, AMDT 22B. . .
11/14/00 | FL | Tallahassee | Tallahassee Regional | 0/4155 | NDB or GPS RWY 36, AMDT 18B. . .
11/14/00 | FL | Tallahassee | Tallahassee Regional | 0/4160 | RADAR-1 AMDT 4A. . .
11/14/00 | MI | Detroit | Detroit Metropolitan Wayne County | 0/4164 | VOR or GPS RWY 21R, AMDT 1B. . .
11/14/00 | MI | Detroit | Detroit Metropolitan Wayne County | 0/4169 | NDB or GPS RWY 27R, AMDT 10A. . .
11/14/00 | MI | Detroit | Detroit Metropolitan Wayne County | 0/4170 | ILS RWY 21R, AMDT 26B. . .
11/14/00 | MI | Detroit | Detroit Metropolitan Wayne County | 0/4171 | ILS RWY 21L, AMDT 8C. . .
11/14/00 | MI | Detroit | Detroit Metropolitan Wayne County | 0/4172 | ILS RWY 3R, AMDT 13A. . .
11/14/00 | MI | Detroit | Detroit Metropolitan Wayne County | 0/4173 | ILS RWY 3L, AMDT 14B. . .
11/14/00 | MN | St James | St James Muni | 0/4163 | NDB RWY 32, AMDT 1. . .
11/15/00 | CO | Pueblo | Pueblo Memorial | 0/4220 | HI-VOR or TACAN RWY 26R, AMDT 2. . .
11/15/00 | CO | Pueblo | Pueblo Memorial | 0/4221 | ILS RWY 8L, AMDT 22A. . .
11/15/00 | CO | Pueblo | Pueblo Memorial | 0/4222 | HI-ILS RWY 26R, AMDT 3. . .
11/14/00 | MI | Detroit | Detroit Metropolitan Wayne County | 0/4231 | NDB or GPS RWY 3L, AMDT 10B. . .
11/15/00 | NM | Santa Fe | Santa Fe Muni | 0/4239 | ILS RWY 2, AMDT 5. . .
11/16/00 | FL | Orlando | Executive | 0/4266 | VOR/DME RWY 7, ORIG-B. . .
11/17/00 | LA | Bunkie | Bunkie Muni | 0/4296 | VOR/DME or GPS-A, AMDT 5. . .
11/17/00 | SC | Charleston | Charleston Executive | 0/4285 | VOR/DME RNAV RWY 9, AMDT 5A. . .

[FR Doc. 00-30524 Filed 11-29-00; 8:45 am]

BILLING CODE 4910-13-M